DEPARTMENT OF THE INTERIOR

Bureau of Land Management

[BLM_WY_FRN_MO4500173507]

Notice of Wyoming Resource Advisory Council Meeting

AGENCY: Bureau of Land Management, Interior.

ACTION: Notice of public meeting.

SUMMARY: In accordance with the Federal Land Policy and Management Act of 1976 and the Federal Advisory Committee Act of 1972, the U.S. Department of the Interior, Bureau of Land Management's (BLM's) Wyoming Resource Advisory Council (Council) will meet as follows.

DATES: The Council will participate in a business meeting from 9 a.m. till 3:15 p.m. Mountain Time (MT) and host a short field visit to the National Historic Trails Center from 3:15 p.m. till 4 p.m. MT on January 31, 2024. A virtual participation option will be available for the business meeting. The meeting and field tour are open to the public.

ADDRESSES: The January 31 business meeting will be held at the Casper Field Office located at 2987 Prospector Drive, Casper, WY 82604. The field tour will commence and conclude at the field office and include a visit to the National Historic Trails Center. Individuals that prefer to participate virtually in the meeting must register in advance. Registration information will be posted 2 weeks in advance of the meeting on the Council's web page at https://www.blm.gov/get-involved/resource-advisory-council/near-you/wyoming.

FOR FURTHER INFORMATION CONTACT: Azure Hall, BLM Wyoming State Office, telephone: (307) 775-6208, email: ahall@blm.gov. Individuals in the United States who are deaf, deafblind, hard of hearing, or have a speech disability may dial 711 (TTY, TDD, or TeleBraille) to access telecommunications relay services for contacting Azure Hall. Individuals outside the United States should use the relay services offered within their country to make international calls to the point-of-contact in the United States.

SUPPLEMENTARY INFORMATION: The Council provides recommendations to the Secretary of the Interior concerning issues relating to land use planning and the management of the public land resources located within the State of Wyoming. The Council will participate in a field tour to the National Historic Trails Center. Members of the public are welcome on field tours but must provide their own transportation and meals. Please make requests in advance for sign language interpreter services, assistive listening devices, or other reasonable accommodations. We ask that you contact the person listed in the FOR FURTHER INFORMATION CONTACT section of this notice at least seven (7) business days prior to the meeting to give the BLM sufficient time to process your request. All reasonable accommodation requests are managed on a case-by-case basis. Agenda topics may include updates and discussions on statewide planning efforts, district and field manager updates, State Director comments, and other resource management issues the Council may raise. The final agenda will be posted on the Council's web page listed above 2 weeks in advance of the meeting.

A public comment period will be offered at 2:25 p.m. MT. Depending on the number of persons wishing to speak and the time available, the amount of time for oral comments may be limited. Written comments for the Council may be sent electronically in advance of the scheduled meeting to Public Affairs Specialist Azure Hall at ahall@blm.gov, or in writing to BLM Wyoming/Public Affairs, 5353 Yellowstone Rd., Cheyenne, WY 82009. All comments received will be provided to the Council. Before including your address, phone number, email address, or other personal identifying information in your comment, you should be aware that your entire comment—including your personal identifying information—may be made publicly available at any time. While you can ask us in your comment to withhold your personal identifying information from public review, we cannot guarantee that we will be able to do so. While the business meeting and field tour are scheduled from 9 a.m. to 4 p.m. MT, they may end earlier or later depending on the needs of group members. Therefore, members of the public interested in a specific agenda item or discussion at the meeting should schedule their arrival accordingly.

Detailed minutes for Council meetings will be maintained in the BLM Wyoming State Office. Minutes will also be posted to the Council's web page at https://www.blm.gov/get-involved/resource-advisory-council/near-you/wyoming.

(Authority: 43 CFR 1784.4-2)

Andrew Archuleta,
BLM Wyoming State Director.

[FR Doc. 2023-28786 Filed 12-28-23; 8:45 am]

BILLING CODE 4331-26-P